DEPARTMENT OF LABOR

Employment and Training Administration

[TA-W-62,056]

Glaxo Smith Kline, Shared Financial Services Department, Philadelphia, PA; Notice of Negative Determination Regarding Application for Reconsideration

By application dated October 15, 2007, the petitioner requested administrative reconsideration of the Department's negative determination regarding eligibility to apply for Trade Adjustment Assistance (TAA), applicable to workers and former workers of the subject firm. The denial notice was signed on September 17, 2007 and published in the Federal Register on October 3, 2007 (72 FR 56385).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The negative TAA determination issued by the Department for workers of Glaxo Smith Kline, Shared Financial Services Department, Philadelphia, Pennsylvania was based on the finding that the worker group does not produce an article within the meaning of Section 222 of the Trade Act of 1974. The investigation revealed that workers of the subject firm performed financial services, such as invoice processing, general accounting, helpdesk support and travel and expense services. The investigation further revealed that although production of article(s) occurred within the firm or appropriate subdivision, the workers do not support this production.

The petitioner contends that the Department erred in its determination and conveys that workers of the subject firm should be investigated on the basis of the secondary impact, and should be certified eligible for TAA as “downstream producers”. The petitioner alleges that workers of the subject firm are “value-added production workers” because they provide the processing of payments of invoices for the vendors that Glaxo Smith Kline uses to produce their drugs.

In order to make an affirmative determination and issue a certification of eligibility to apply for adjustment assistance on the basis of the secondary impact, the workers' firm has to be a downstream producer (final finishing or assembly) for, a primary firm whose workers are certified eligible to apply for adjustment assistance.

In this case, however, workers of Glaxo Smith Kline, Shared Financial Services Department, Philadelphia, Pennsylvania, did not produce a product and did not perform finishing or final assembly of articles produced by a primary firm from August 2006 through August of 2007. Financial services, such as the processing of payments of invoices for the vendors are not considered production of an article within the meaning of Section 222 of the Trade Act. No production took place at the subject facility and the workers did not support production of articles at any affiliated firm in the relevant time period. Thus the subject firm workers are not eligible under secondary impact.

The petitioner also alleges that workers of the subject firm lost their jobs “due to off-shoring the services to India.”

The allegation of a shift to another country might be relevant if it was determined that workers of the subject firm produce an article. However, the investigation determined that workers of Glaxo Smith Kline, Shared Financial Services Department, Philadelphia, Pennsylvania do not produce an article within the meaning of Section 222 of the Trade Act of 1974.

Conclusion

After review of the application and investigative findings, I conclude that there has been no error or misinterpretation of the law or of the facts which would justify reconsideration of the Department of Labor's prior decision. Accordingly, the application is denied.

Signed in Washington, DC, this 14th day of November, 2007.
Elliott S. Kushner,
Certifying Officer, Division of Trade Adjustment Assistance.

[FR Doc. E7-22747 Filed 11-20-07; 8:45 am]

BILLING CODE 4510-FN-P